DEPARTMENT OF THE INTERIOR

Bureau of Land Management

[MT-092-1610-00]

Notice of Availability

AGENCY: Bureau of Land Management, Interior.

ACTION: Notice.

SUMMARY: The Bureau of Land Management (BLM), Glasgow Field Station, announces the availability of a proposed Resource Management Plan (RMP) Amendment and Environmental Assessment (EA). The proposed plan amendment/EA addresses two potential ACECs in the Glasgow Field Station, Valley County, Montana. The proposed plan is to designate a Bitter Creek Area of Critical Environmental Concern (ACEC) and a Mountain Plover ACEC.

DATES: The proposed plan amendment may be protested. The 30-day protest period will commence with the date of publication of this notice. Protests must be submitted on or before February 21, 2001.

ADDRESSES: Written protests must be sent to: Director, Bureau of Land Management, Attention: Ms Brenda Williams, Protests Coordinator, WO-210/LS-1075, Department of the Interior, Washington, DC 20240. The overnight mail address is: Director, Bureau of Land Management, Attention: Ms Brenda Williams, Protests Coordinator (WO-210), 1620 L Street, NW., Rm. 1075, Washington, DC 20036 [Phone: 202/452-5510].

FOR FURTHER INFORMATION CONTACT: John Fahlgren, Assistant Field Manager, BLM, Glasgow Field Station, RR1-4775, Glasgow, MT 59230. 406-228-3750.

SUPPLEMENTARY INFORMATION: This proposed plan amendment/EA addresses special management for two ACECs; Bitter Creek and Mountain Plover. The public land being considered is located in Valley County, Montana. This plan would amend the Judith-Valley-Phillips RMP. The Bitter Creek Wilderness Study Area (WSA) (59,660 acres) was found to meet the criteria as a potential ACEC due to the scenic diversity and variety of vegetation types and wildlife habitat. The proposed plan is to designate a Bitter Creek ACEC. If Congress released Bitter Creek from WSA status, a plan for management of the ACEC would be initiated within two years. Until an ACEC management plan is completed for Bitter Creek, management would be the same as the revised edition of the Interim Management Policy for Lands Under Wilderness Review (1998). The Mountain Plover area (24,730 acres) provides natural habitat for the mountain plover, a prairie bird. It is an area of native plover habitat which is not associated with black-tailed prairie dogs. The proposed plan is to designate a Mountain Plover ACEC. Management prescriptions limiting surface disturbing activities would apply within the ACEC to protect the mountain plover during the nesting period from April 1 to July 31. These management prescriptions include a seasonal restriction on oil and gas activities, mitigating measures considered in Plan of Operations, seasonal stipulation on right-of-way grants, and off-highway vehicle travel seasonally limited to designated roads and trails.

The BLM's resource management planning process includes an opportunity for administrative review via a plan protest to the BLM's Director. Any person who participated in the planning process and has an interest which is or may be adversely affected by the approval of an amendment to an RMP may protest such approval. Careful adherence to the following guidelines will assist in preparing a protest that will assure the greatest consideration to your point of view. Only those persons or organizations who participated in the planning process may protest. A protesting party may raise only those issues which were commented on during the planning process. New issues may be raised at any time but should be directed to the appropriate BLM field office for consideration in plan implementation, as potential plan amendments, or as otherwise appropriate. The protest period extends for 30 days. There is no provision for any extension of time. To be considered “timely,” your protest must be postmarked no later than the last day of the protest period. Also, although not a requirement, we suggest that you send your protest by certified mail, return receipt requested. In order to be considered complete, your protest must contain, at a minimum, the following information:

(1) The name, mailing address, telephone number and interest of the person filing the protest.

(2) A statement of the issue or issues being protested.

(3) A statement of the part or parts of the amendment being protested. To the extent possible, this should be done by reference to specific pages, paragraphs, sections, tables, maps, etc. included in the proposed amendment.

(4) A copy of all documents addressing the issue or issues submitted during the planning process by the protesting party or an indication of the discussion date of the issue(s) for the record.

(5) A concise statement explaining why the proposed decision is believed to be incorrect. This is a critical part of your protest. Take care to document all relevant facts. As much as possible, reference or cite the planning documents, environmental analysis documents, available planning records (i.e., meeting minutes or summaries, correspondence, etc.). A protest which merely expresses disagreement with the proposed decision, without any data will not provide us with the benefit of your information and insight. In this case, the Director's review will be based on the existing analysis and supporting data.

At the end of the 30-day protest period, the BLM may issue a Decision Record, approving implementation of any portions of the proposed plan amendment not under protest. Approval will be withheld on any portion of the plan under protest until the protest has been resolved.

(Authority: Sec. 202, Pub. L. 94-579, 90 Stat. 2747 (43 U.S.C. 1712))
Dated: January 8, 2001.
John Fahlgren,
Assistant Field Manager, Bureau of Land Management.

[FR Doc. 01-1624 Filed 1-19-01; 8:45 am]

BILLING CODE 4310-DN-P